DEPARTMENT OF ENERGY

Federal Energy Regulatory Commission

[Docket No. ER00-1782-001, et al.]

Duke Energy Trenton, LLC, et al.; Electric Rate and Corporate Regulation Filings

March 23, 2000.

Take notice that the following filings have been made with the Commission:

1. Duke Energy Trenton, LLC

[Docket No. ER00-1782-001]

Take notice that on March 20, 2000, Duke Energy Trenton, LLC (Duke Trenton) tendered for filing a supplemental filing to its Application for authorization to engage in market-based rate sales submitted in the above-referenced docket on March 2, 2000.

The supplemental filing consolidates Duke Trenton's proposed Rate Schedules FERC Nos. 1, 2, and 3 into one tariff, FERC Electric Tariff No. 1.

Comment date: April 10, 2000, in accordance with Standard Paragraph E at the end of this notice.

2. Duke Energy Vermillion, LLC

[Docket No. ER00-1783-001]

Take notice that on March 20, 2000, Duke Energy Vermillion, LLC (Duke Vermillion) tendered for filing a supplemental filing to its Application for authorization to engage in market-based rate sales submitted in the above-referenced docket on March 2, 2000.

The supplemental filing consolidates Duke Vermillion's proposed Rate Schedules FERC Nos. 1, 2, and 3 into one tariff, FERC Electric Tariff No. 1. In addition, the Test Power Purchase Agreement, referred to in the Application as Rate Schedule FERC No. 4, will be redesignated as Rate Schedule FERC No. 1.

Comment date: April 10, 2000, in accordance with Standard Paragraph E at the end of this notice.

3. Duke Energy Madison, LLC

[Docket No. ER00-1784-001]

Take notice that on March 20, 2000, Duke Energy Madison, LLC (Duke Madison) tendered for filing a supplemental filing to its Application for authorization to engage in market-based rate sales submitted in the above-referenced docket on March 2, 2000.

The supplemental filing consolidates Duke Madison's proposed Rate Schedules FERC Nos. 1, 2, and 3 into one tariff, FERC Electric Tariff No. 1. In addition, the Test Power Purchase Agreement, referred to in the Application as Rate Schedule FERC No. 4, will be redesignated as Rate Schedule FERC No. 1.

Comment date: April 10, 2000, in accordance with Standard Paragraph E at the end of this notice.

4. Avista Corporation

[Docket No. ER00-1917-000]

Take notice that on March 20, 2000, Avista Corporation, tendered for filing with the Federal Energy Regulatory Commission pursuant to section 35.12 of the Commissions, 18 CFR Part 35.12, an executed Amendment to a Mutual Netting Agreement with Benton County PUD previously filed with the FERC under Docket No. ER99-4136-000, Service Agreement No. 274, effective 7/1/99 changing billing and payment terms.

AVA requests waiver of the prior notice requirements and requests an effective date of March 1, 2000 for the amended terms for net billing of transactions.

Notice of the filing has been served upon the following: Mr. James W. Sanders, General Manager, Benton County PUD, 2721 West 10th Avenue, P O Box 6270, Kennewick, WA 99336-0270.

Comment date: April 10, 2000, in accordance with Standard Paragraph E at the end of this notice.

5. UtiliCorp United Inc.

[Docket No. ER00-1918-000]

Take notice that on March 20, 2000, UtiliCorp United Inc. (UtiliCorp) filed service agreements with Allegheny Energy Supply Company, LLC for service under its Non-Firm Point-to-Point open access service tariff for its operating divisions, Missouri Public Service, WestPlains Energy-Kansas and WestPlains Energy-Colorado.

Comment date: April 10, 2000, in accordance with Standard Paragraph E at the end of this notice.

6. UtiliCorp United Inc.

[Docket No. ER00-1919-000]

Take notice that on March 20, 2000, UtiliCorp United Inc. (UtiliCorp) filed service agreements with Allegheny Energy Supply Company, LLC for service under its Short-Term Firm Point-to-Point open access service tariff for its operating divisions, Missouri Public Service, WestPlains Energy-Kansas and WestPlains Energy-Colorado.

Comment date: April 10, 2000, in accordance with Standard Paragraph E at the end of this notice.

7. Central Illinois Light Company

[Docket No. ER00-1921-000]

Take notice that on March 20, 2000, Central Illinois Light Company (CILCO), 300 Liberty Street, Peoria, Illinois 61202, tendered for filing with the Commission an Index of Customers under its Market Rate Power Sales Tariff and name changes for three customers, from El Paso Power Services Company to El Paso Merchant Energy, L.P.; from Illinova Power Marketing, Inc. to Dynegy Power Marketing, Inc. and from Sonat Power Marketing, L.P. to El Paso Merchant Energy, L.P.

CILCO requested an effective date of March 13, 2000 for the new index.

Copies of the filing were served on the affected customers and the Illinois Commerce Commission.

Comment date: April 10, 2000, in accordance with Standard Paragraph E at the end of this notice.

8. Wisconsin Electric Power Company

[Docket No. ER00-1922-000]

Take notice that on March 20, 2000, Wisconsin Electric Power Company (Wisconsin Electric) , tendered for filing a notification indicating a name change for an electric service agreement under its Coordination Sales Tariff (FERC Electric Tariff, First Revised Volume No. 2) as requested by the customer.

Wisconsin Electric respectfully requests effective March 1, 2000, Service Agreement No. 78 with Williams Energy Service Company is changed to Williams Energy Marketing & Trading Company (Williams).

Copies of the filing have been served on Williams, the Michigan Public Service Commission, and the Public Service Commission of Wisconsin.

Comment date: April 10, 2000, in accordance with Standard Paragraph E at the end of this notice.

9. Central Illinois Light Company

[Docket No. ER00-1923-000]

Take notice that on March 20, 2000, Central Illinois Light Company (CILCO), 300 Liberty Street, Peoria, Illinois 61202, tendered for filing with the Commission a substitute Index of Customers under its Coordination Sales Tariff and name changes for four customers from Citizens Power Sales to Citizens Power Sales LLC.; from El Paso Power Services Company to El Paso Merchant Energy, L.P.; from Illinova Power Marketing, Inc. to Dynegy Power Marketing, Inc. and from Sonat Power Marketing, L.P. to El Paso Merchant Energy, L.P.

CILCO requested an effective date of March 13, 2000 for the new index.

Copies of the filing were served on the affected customers and the Illinois Commerce Commission.

Comment date: April 10, 2000, in accordance with Standard Paragraph E at the end of this notice.

10. The Toledo Edison Company

[Docket No. ER00-1924-000]

Take notice that on March 20, 2000 The Toledo Edison Company tendered for filing, an amendment to the Interconnection and Service Agreement with American Municipal Power-Ohio, Inc. (AMP-Ohio) which deletes Section 2.04 to eliminate an obsolete reference, revises Section 1.09(a) of Schedule A to increase the permissible monthly deposit to or withdraw from the Base Capacity Bank by AMP-Ohio, and revises Schedule K to reflect the delivery points now served under the FirstEnergy Open Access Tariff. There is no rate effect associated with this filing. This filing is made pursuant to Section 205 of the Federal Power Act.

Comment date: April 20, 2000, in accordance with Standard Paragraph E at the end of this notice.

11. Southwestern Public Service Company

[Docket No. ER00-1925-000]

Take notice that on March 20, 2000, New Century Services, Inc., on behalf of Southwestern Public Service Company (Southwestern), submitted an executed umbrella service agreement under Southwestern's market-based sales tariff with South Plains Electric Cooperative, Inc. (South Plains). This umbrella service agreement provides for Southwestern's sale and South Plain's purchase of capacity and energy at market-based rates pursuant to Southwestern's market-based sales tariff.

Southwestern requests that this service agreement become effective on March 20, 2000.

Comment date: April 10, 2000, in accordance with Standard Paragraph E at the end of this notice.

Standard Paragraphs

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

David P. Boergers,
Secretary.

[FR Doc. 00-7835 Filed 3-29-00; 8:45 am]

BILLING CODE 6717-01-P